INTERNATIONAL BOUNDARY AND WATER COMMISSION, UNITED STATES AND MEXICO

United States Section: Notice of Availability of a Draft Environmental Assessment and Finding of No Significant Impact for Flood Control Improvements to the Rio Grande Canalization Project Levee System in El Paso County, Texas and Doña Ana and Sierra Counties, NM

AGENCY: United States Section, International Boundary and Water Commission, United States and Mexico.

ACTION: Notice of Availability of Draft Environmental Assessment (EA) and Draft Finding of No Significant Impact (FONSI).

SUMMARY: Pursuant to Section 102(2)(c) of the National Environmental Policy Act (NEPA) of 1969, the Council on Environmental Quality Final Regulations (40 CFR parts 1500 through 1508), and the United States Section, International Boundary and Water Commission's (USIBWC) Operational Procedures for Implementing Section 102 of NEPA, published in the Federal Register September 2, 1981, (46 FR 44083); the USIBWC hereby gives notice of availability of the Draft Environmental Assessment and FONSI for Flood Control Improvements to the Rio Grande Canalization Project (RGCP) Levee System, located in El Paso County, Texas and Doña Ana and Sierra Counties, New Mexico.

FOR FURTHER INFORMATION CONTACT: Daniel Borunda, Environmental Protection Specialist, Environmental Management Division, United States Section, International Boundary and Water Commission; 4171 N. Mesa, C-100; El Paso, Texas 79902. Telephone: (915) 832-4767; e-mail: danielborunda@ibwc.state.gov.

DATES: Comments on the Draft EA and Draft FONSI will be accepted through October 30, 2007. This date has been determined by the expected release of the Federal Register Notice on October 1, 2007.

SUPPLEMENTARY INFORMATION: The USIBWC is preparing an Environmental Assessment (EA) for a proposed action to raise approximately 52 miles of levee system within the RGCP. The area under consideration includes approximately 13 miles within El Paso County, Texas and 38 miles within Doña Ana and Sierra Counties in New Mexico. Other flood control improvements such as a floodwall may be required in the Canutillo area in order to fully contain the 100-year flood flow.

The RGCP levee system is one of the priority areas identified and targeted for flood control improvements. The need for improvements to the levee system was identified in the 2004 Final Environmental Impact Statement, River Management Alternatives for the Rio Grande Canalization Project. USIBWC in coordination with the United States Army Corps of Engineers, Albuquerque District evaluated the RGCP flood containment capacity in 1996 and subsequently in 2005. These studies identified a number of potential levee deficiencies along the RGCP on the basis of hydraulic modeling of the 100-year storm. The modeling indicated that an increase in levee height would be required to meet design criteria for flood protection. Levee height increases range from 1 to 4 feet at various locations for a total of 52 levee miles. Increases greater than 2 feet may require expansion of the levee footprint by lateral extension of the structure to meet design criteria. If required, levee footprint increases may occur within the USIBWC right-of-way and extend either on the landside or riverside of the levee depending on existing constraints.

Federal Emergency Management Agency (FEMA) certification of RGCP levees in El Paso County, Texas and Doña Ana and Sierra Counties, New Mexico cannot occur until the existing levees are rehabilitated to meet certification standards. Recent preliminary Digital Flood Insurance Rate Maps released by FEMA indicate increased newly designated Special Flood Hazard areas along the Rio Grande. The proposed action will enable the USIBWC to partially certify specific levee segments along the RGCP that meet the 3-foot freeboard design criterion for flood protection.

Summary of Findings: Pursuant to NEPA guidance (40 Code of Federal Regulations 1500-1508), The President's Council on Environmental Quality issued regulations for NEPA implementation which included provisions for both the content and procedural aspects of the required EA. The EA assesses potential environmental impacts of the Proposed Action and the No Action Alternative. A draft FONSI was issued for the Proposed Action, based on a review of the facts and analyses contained in the EA. An environmental impact statement will not be prepared unless additional information which may affect this decision is brought to our attention within 30 days from the date of this Notice.

Availability: Copies of the Draft EA and FONSI may be obtained by request from Mr. Daniel Borunda, 4171 North Mesa, Suite C-100, El Paso, Texas 79902, e-mail: danielborunda@ibwc.state.gov. Electronic copies may also be obtained from the USIBWC Home Page at http://www.ibwc.state.gov. Written comments will be accepted for 30 days following the date of this Notice.

Dated: September 24, 2007.
Susan Daniel,
General Counsel.

[FR Doc. E7-19209 Filed 9-28-07; 8:45 am]

BILLING CODE 7010-01-P